ENVIRONMENTAL PROTECTION AGENCY

[FRL 9963-11-ORD]

Office of Research and Development; Ambient Air Monitoring Reference and Equivalent Methods: Designation of One New Reference Method and One New Equivalent Method

AGENCY: Environmental Protection Agency (EPA).

ACTION: Notice of the designation of one new reference method and one new equivalent method for monitoring ambient air quality.

SUMMARY: Notice is hereby given that the Environmental Protection Agency (EPA) has designated one new reference method for measuring concentrations of carbon monoxide (CO), and one new equivalent method for measuring concentrations of nitrogen dioxide (NO2) in ambient air.

FOR FURTHER INFORMATION CONTACT: Robert Vanderpool, Exposure Methods and Measurement Division (MD-D205-03), National Exposure Research Laboratory, U.S. EPA, Research Triangle Park, North Carolina 27711. Email: Vanderpool.Robert@epa.gov.

SUPPLEMENTARY INFORMATION: In accordance with regulations at 40 CFR part 53, the EPA evaluates various methods for monitoring the concentrations of those ambient air pollutants for which EPA has established National Ambient Air Quality Standards (NAAQSs) as set forth in 40 CFR part 50. Monitoring methods that are determined to meet specific requirements for adequacy are designated by the EPA as either reference or equivalent methods (as applicable), thereby permitting their use under 40 CFR part 58 by States and other agencies for determining compliance with the NAAQSs. A list of all reference or equivalent methods that have been previously designated by EPA may be found at http://www.epa.gov/ttn/amtic/criteria.html.

The EPA hereby announces the designation of one new reference method for measuring concentrations of CO in ambient air and one new equivalent method for measuring concentrations of NO2 in ambient air. These designations are made under the provisions of 40 CFR part 53, as amended on October 26, 2015 (80 FR 65291-65468).

The new reference method for CO is an automated method (analyzer) utilizing a measurement principle based on non-dispersive infrared (NDIR) analysis and is identified as follows:

RFCA-0317-244, “Kentek Mezus Model 310 Carbon Monoxide Analyzer” non-dispersive infrared (NDIR) analyzer operated in the measurement range of 0-50 ppm, with 0.5 µm, 47 mm diameter Teflon® filter installed, operated at any ambient temperatures between 20 °C and 30 °C, at nominal input line voltages of 110 VAC or 220 VAC and frequencies of 50 to 60 Hz, with temperature and pressure compensation, at a nominal sampling flow rate of 800 cc/min, and operated according to the Kentek Mezus 310 CO User's Instruction Manual.

This application for a reference method determination for this CO method was received by the Office of Research and Development on May 25, 2016. This analyzer is commercially available from the applicant, Kentek Environmental Technology, Hanshin S Meca Room #526, 65 Techbi 3-ro, Yuseong-gu, Daejeon, Republic of Korea, 34016.

The new equivalent method for NO2 is an automated method (analyzer) utilizing a measurement principle based on cavity attenuated phase shift (CAPS) spectroscopy and is identified as follows:

EQNA-0217-242, “Ecotech Serinus 60 NO2 CAPS (Cavity Attenuated Phase Shift) Analyzer” operated at temperatures between 20 °C and 45 °C, a line voltage between 80V and 260V, and with or without any of the following options: Rack mounts, internal pump, internal permeation device, high pressure calibration ports, Ethernet output. The following menu choices must be selected: Control Loop—Enabled; Diagnostic Mode—Operate; Pres/Temp/Flow Compensation—Enabled; Span Compensation—Disabled, and operated according to the Serinus 60 User Manual.

This application for an equivalent method determination for this NO2 method was received by the Office of Research and Development on January 11, 2017. This analyzer is commercially available from the applicant, Ecotech Pty. Ltd., 1492 Ferntree Gully Rd., Knoxfield, Victoria, 3180, Australia.

Representative test analyzers have been tested in accordance with the applicable test procedures specified in 40 CFR part 53, as amended on October 26, 2015. After reviewing the results of those tests and other information submitted by the applicant, EPA has determined, in accordance with part 53, that these methods should be designated as a reference or equivalent method.

As a designated reference or equivalent method, these methods are acceptable for use by states and other air monitoring agencies under the requirements of 40 CFR part 58, Ambient Air Quality Surveillance. For such purposes, each method must be used in strict accordance with the operation or instruction manual associated with the method and subject to any specifications and limitations (e.g., configuration or operational settings) specified in the designated method description (see the identification of the method above).

Use of the method also should be in general accordance with the guidance and recommendations of applicable sections of the “Quality Assurance Handbook for Air Pollution Measurement Systems, Volume I,” EPA/600/R-94/038a and “Quality Assurance Handbook for Air Pollution Measurement Systems, Volume II, Ambient Air Quality Monitoring Program,” EPA-454/B-13-003, (both available at http://www.epa.gov/ttn/amtic/qalist.html). Provisions concerning modification of such methods by users are specified under Section 2.8 (Modifications of Methods by Users) of Appendix C to 40 CFR part 58.

Consistent or repeated noncompliance with any of these conditions should be reported to: Director, Exposure Methods and Measurement Division (MD-E205-01), National Exposure Research Laboratory, U.S. Environmental Protection Agency, Research Triangle Park, North Carolina 27711.

Designation of these reference and equivalent methods is intended to assist the States in establishing and operating their air quality surveillance systems under 40 CFR part 58. Questions concerning the commercial availability or technical aspects of the method should be directed to the applicant.

Dated: May 17, 2017.
Jennifer Orme-Zavaleta,
Director, National Exposure Research Laboratory.

[FR Doc. 2017-12738 Filed 6-16-17; 8:45 am]

BILLING CODE 6560-50-P